NATIONAL TRANSPORTATION SAFETY BOARD

Sunshine Act Meeting

Agenda

Time and Date: 9:30 a.m., Tuesday, September 12, 2017.

Place: NTSB Conference Center, 429 L'Enfant Plaza SW., Washington, DC 20594.

Status: The one item is open to the public.

Matters to be Considered:

56955 Highway Accident Report: Collision Between a Car Operating With Automated Vehicle Control Systems and a Tractor-Semitrailer Truck, Near Williston, Florida, May 7, 2016

News Media Contact: Telephone: (202) 314-6100.

The press and public may enter the NTSB Conference Center one hour prior to the meeting for set up and seating.

Individuals requesting specific accommodations should contact Rochelle McCallister at (202) 314-6305 or by email at Rochelle.McCallister@ntsb.gov by Wednesday, September 6, 2017.

The public may view the meeting via a live or archived Web cast by accessing a link under “News & Events” on the NTSB home page at www.ntsb.gov.

Schedule updates, including weather-related cancellations, are also available at www.ntsb.gov.

For More Information Contact: Candi Bing at (202) 314-6403 or by email at bingc@ntsb.gov.

For Media Information Contact: Peter Knudson at (202) 314-6100 or by email at peter.knudson@ntsb.gov.

Dated: Thursday, August 17, 2017.
Candi R. Bing,
Federal Register Liaison Officer.

[FR Doc. 2017-17803 Filed 8-18-17; 11:15 am]

BILLING CODE 7533-01-P